DEPARTMENT OF JUSTICE

Notice of Lodging of Proposed Consent Decree Amendment Under the Clean Air Act; the Clean Water Act; the Resource Conservation and Recovery Act; the Emergency Planning and Community Right-To-Know Act; and the Comprehensive Environmental Response, Compensation and Liability Act

On March 4, 2013, the Department of Justice lodged with the United States District Court for the Eastern District of Missouri a proposed First Amendment to the Consent Decree in the lawsuit entitled United States v. The Doe Run Resources Corporation, et al., Civil Action No. 4:10-cv-1895-JCH.

The Consent Decree, entered by the Court on December 21, 2011 (Dkt. Item No. 116), resolved a joint multimedia action by the United States and the State of Missouri against The Doe Run Resources Corporation, The Doe Run Resources Corporation d/b/a The Doe Run Company, and The Buick Resource Recycling Facility, LLC, (collectively “Doe Run”) for violations of the Clean Air Act, the Resource Conservation and Recovery Act, the Clean Water Act, the Emergency Planning and Community Right-to-Know Act, the Comprehensive Environmental Response, Compensation, and Liability Act, and Missouri law at several mining, milling and smelting operations located in Missouri. The Consent Decree required Doe Run to perform injunctive relief and mitigation projects and to pay a $7 million civil penalty. The Consent Decree also required Doe Run to cease certain operations at the Herculaneum Lead Smelter Facility by December 31, 2013. In the interim, the Consent Decree imposed certain limits on the smelter's operation. The proposed Amendment would temporarily increase the Herculaneum Lead Smelter Facility 12-month rolling average limit for SO2 emissions and the 12-month rolling average limit for lead production for three months in 2013. To offset this temporary increase, the proposed Amendment requires Doe Run to lower the 12-month rolling SO2 emission limit for five months in 2013 to ensure an overall net reduction in SO2 emissions for 2013. The Amendment does not allow Doe Run to produce more lead at the Herculaneum Lead Smelter Facility for calendar year 2013 than it otherwise would under the original Consent Decree. In addition, the Amendment does not change the short-term lead production limit or the short-term SO2 emission limits for the Herculaneum Lead Smelter Facility set forth in the Consent Decree.

The publication of this notice opens a period for public comment on the First Amendment to the Consent Decree. Comments should be addressed to the Assistant Attorney General, Environment and Natural Resources Division, and should refer to United States v. The Doe Run Resources Corporation, et al., Civil Action No. 4:10-cv-1895, D.J. Ref. No. 90-5-2-1-07390/1. All comments must be submitted no later than fifteen (15) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the First Amendment to the Consent Decree may be examined and downloaded at this Justice Department Web site: http://www.usdoj.gov/enrd/Consent_Decrees.html. We will provide a paper copy of the First Amendment to the Consent Decree upon written request and payment of reproduction costs. Please mail your request and payment to: Consent Decree Library, U.S. DOJ—ENRD, P.O. Box 7611, Washington, DC 20044-7611.

Please enclose a check or money order for $3.25 (25 cents per page reproduction cost) payable to the United States Treasury.

Robert M. Maher, Jr.,
Acting Deputy Section Chief, Environmental Enforcement Section, Environment and Natural Resources Division.

[FR Doc. 2013-05506 Filed 3-8-13; 8:45 am]

BILLING CODE 4410-15-P